DEPARTMENT OF HOUSING AND URBAN DEVELOPMENT

[Docket No. FR-6429-C-02]

Section 3 Benchmarks for Creating Economic Opportunities for Low- and Very Low-Income Persons and Eligible Businesses; Correction

AGENCY: Office of the Assistant Deputy Secretary for Field Policy and Management, HUD.

ACTION: Notification of benchmarks; correction.

SUMMARY: The Department of the Housing and Urban Development (HUD) published a notice in the Federal Register on October 5, 2023, to inform members of the public that HUD was updating its 2020 version of the Section 3 benchmark notice pursuant to HUD's regulations, which require that HUD set Section 3 benchmarks by publishing a notification, subject to public comment, in the Federal Register and update the benchmarks no less frequently than once every three years by the same method of notification. The notice provided an opportunity for public comment about the Section 3 benchmark goals but did not include the option of electronic submission through Regulations.gov. The notice also did not specify a period of time for the public comment period. This notice corrects these omissions and establishes a public comment period of sixty days to submit comments.

DATES: Effective Date: December 22, 2023. The public comment period for the notice published in the Federal Register on October 5, 2023 (88 FR 69219) is January 22, 2024.

FOR FURTHER INFORMATION CONTACT: Nathan Roush, Program Analyst, Office of Field Policy and Management, Department of Housing and Urban Development, Five Points Plaza, 40 Marietta St. NW, Atlanta, GA 30303, telephone number 202-708-2426 (this is not a toll-free number). General email inquiries regarding Section 3 may be sent to Section3@hud.gov. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

Correction

In the Federal Register of October 5, 2023, in FR Doc 2023-22183, on page 69219, in the first column, the following corrections are made:

1. On page 69219, in the first column, in the Dates caption, revise the “Dates” section to read as follows:

DATES: Effective Date: December 22, 2023. Comment Due Date: January 22, 2024.

2. On page 69219, in the first column, after the dates section, add a section to read as follows:

ADDRESSES: HUD invites interested persons to submit comments to the Office of the General Counsel, Regulations Division, Department of Housing and Urban Development, 451 7th Street SW, Room 10276, Washington, DC 20410-0500. Communications should refer to the above docket number and title and should contain the information specified in the “Request for Comments” section. There are two methods for submitting public comments.

1. Electronic Submission of Comments. Comments may be submitted electronically through the Federal eRulemaking Portal at www.regulations.gov. HUD strongly encourages commenters to submit comments electronically. Electronic submission of comments allows the commenter maximum time to prepare and submit a comment, ensures timely receipt by HUD, and enables HUD to make comments immediately available to the public. Comments submitted electronically through the website can be viewed by other commenters and interested members of the public. Commenters should follow instructions provided on that site to submit comments electronically.

2. Submission of Comments by Mail. Comments may be submitted by mail to the Regulations Division, Office of General Counsel, Department of Housing and Urban Development, 451 7th Street SW, Room 10276, Washington, DC 20410-0500. Due to security measures at all Federal agencies, however, submission of comments by mail often results in delayed delivery. To ensure timely receipt, HUD recommends that comments be mailed at least two weeks in advance of the public comment deadline.

Aaron Santa Anna,
Associate General Counsel, Office of Legislation and Regulations.

[FR Doc. 2023-25846 Filed 11-21-23; 8:45 am]

BILLING CODE 4210-67-P